SECURITIES AND EXCHANGE COMMISSION

17 CFR Part 230

[Release Nos. 33-10238A; 34-79161A; File No. S7-22-15]

RIN 3235-AL80

Exemptions To Facilitate Intrastate and Regional Securities Offerings

AGENCY: Securities and Exchange Commission.

ACTION: Final rule; technical correction.

SUMMARY: This document makes a technical correction to one of the final regulations (SEC Rel. No. 33-10238) published in the Federal Register on November 21, 2016 (81 FR 83494). Specifically, the amendments to Rule 504 of Regulation D under the Securities Act of 1933 inadvertently omitted the word “or” from the last sentence of the rule; this correction is reflected in the text of the amendments below.

DATES: This correction is effective February 28, 2017.

FOR FURTHER INFORMATION CONTACT: Anthony G. Barone, Special Counsel, or Jenny Riegel, Special Counsel, Division of Corporation Finance, at (202) 551-3460.

SUPPLEMENTARY INFORMATION: We are making a technical correction to Rule 504 ¹ of Regulation D ² under the Securities Act of 1933.

¹ 17 CFR 230.504.

² 17 CFR 230.500 through 230.508.

List of Subjects in 17 CFR Part 230

Reporting and recordkeeping requirements, Securities.

Text of the Amendments

For the reasons set out above, title 17, chapter II of the Code of Federal Regulations is amended as follows:

PART 230—GENERAL RULES AND REGULATIONS, SECURITIES ACT OF 1933

1. The general authority citation for part 230 continues to read as follows:

Authority: 15 U.S.C. 77b, 77b note, 77c, 77d, 77f, 77g, 77h, 77j, 77r, 77s, 77z-3, 77sss, 78c, 78d, 78j, 78l, 78m, 78n, 78o, 78o-7 note, 78t, 78w, 78ll(d), 78mm, 80a-8, 80a-24, 80a-28, 80a-29, 80a-30, and 80a-37, and Pub. L. 112-106, sec. 201(a), sec. 401, 126 Stat. 313 (2012), unless otherwise noted.

* * * * *

2. Amend § 230.504 by revising paragraph (b)(2) to read as follows:

§ 230.504 Exemption for limited offerings and sales of securities not exceeding $5,000,000.

* * * * *

(b) * * *

(2) The aggregate offering price for an offering of securities under this § 230.504, as defined in § 230.501(c), shall not exceed $5,000,000, less the aggregate offering price for all securities sold within the twelve months before the start of and during the offering of securities under this § 230.504 or in violation of section 5(a) of the Securities Act.

* * * * *

Dated: February 22, 2017.
Brent J. Fields,
Secretary.

[FR Doc. 2017-03848 Filed 2-27-17; 8:45 am]

BILLING CODE 8011-01-P